DEPARTMENT OF HEALTH AND HUMAN SERVICES

5 CFR Chapter XLV

21 CFR Chapter I

25 CFR Chapter V

42 CFR Chapters I and V

45 CFR Subtitle A and Chapters II, III, IV, X, and XIII

Reducing Regulatory Burden; Retrospective Review Under Executive Order 13563

AGENCY: Department of Health and Human Services.

ACTION: Request for information.

SUMMARY: In accordance with Executive Order 13563, “Improving Regulation and Regulatory Review,” the Department of Health and Human Services (HHS) seeks public comment from interested parties on its Preliminary Plan for Retrospective Review of Existing Regulations. The purpose of the Preliminary Plan is to identify a preliminary list of regulations that are appropriate candidates for review over the next two years and establish an ongoing process of retrospective review of existing regulations by which HHS can determine whether any should be modified, streamlined, expanded, or repealed. HHS anticipates that such reviews will make its regulatory program more effective and flexible and reduce unnecessary burdens on the regulated communities.

DATES: Submit electronic or written comments by June 30, 2011.

ADDRESSES: To facilitate the receipt and processing of comments, HHS encourages interested persons to submit their comments electronically to the HHS Open Government Portal at http://www.hhs.gov/open, or by using the Federal eRulemaking portal http://www.regulations.gov (following instructions for submission of comments). Follow the instructions for submitting comments. Persons submitting comments electronically are encouraged not to submit paper copies. Persons interested in submitting comments on paper should send or deliver their comments (preferably three copies) to: Department of Health and Human Services, Office of Documents and Regulations Management, 200 Independence Avenue, SW., Suite 639G, Washington, DC 20201.

All comments will be available to the public, without charge, online at http://www.regulations.gov and http://www.hhs.gov/open.

Instructions: The HHS Preliminary Plan is available for review, download, and comment at http://www.hhs.gov/open. You may also request a copy of the HHS Preliminary Plan, identified by Docket No. by writing to the address below. All comment submissions received must include the Agency name and Docket No. for this Notice: HHS-ES-2011-002.

FOR FURTHER INFORMATION CONTACT: Oliver Potts (202) 690-6392.

SUPPLEMENTARY INFORMATION: On January 18, 2011, President Obama issued Executive Order 13563 to improve regulation and regulatory review by requiring Federal agencies to design cost effective, evidence-based regulations that are compatible with economic growth, job creation, and competitiveness, and which rely on the best, most innovative, and least burdensome tools to achieve regulatory ends. To meet that objective, the President directed each Executive Branch agency to consider how best to promote periodic retrospective review of existing significant rules to determine if they are outmoded, ineffective, insufficient, or excessively burdensome. The President required each agency to submit its preliminary plan to the Office of Management and Budget's Office of Information and Regulatory Affairs by May 18, 2011.

HHS submitted its preliminary plan in compliance with the President's Executive Order and now seeks public comment. The plan is available for viewing, downloading, and comment at the following Web site— http://www.hhs.gov/open/The comment period will close on June 30, after which HHS will finalize its preliminary plan. HHS notes that this request for comment is issued solely for information and program-planning purposes and does not obligate the agency to take any further action.

Dated: June 1, 2011.
Barbara J. Holland,
Deputy Executive Secretary to the Department.

[FR Doc. 2011-13908 Filed 6-1-11; 4:15 pm]

BILLING CODE 4150-24-P